SMALL BUSINESS ADMINISTRATION

Listing of All the Small Business Administration Currently Approved Information Collections

AGENCY: Small Business Administration.

ACTION: Notice.

SUMMARY: In accordance with the Paperwork Reduction Act of 1995, this notice announces the U.S. Small Business Administration's currently approved information collections.

FOR FURTHER INFORMATION CONTACT: Curtis B. Rich, Management Analyst, 202-205-7030, curtis.rich@sba.gov.

Title of collection | OMB Control No. | Expiration date
Surety Bond Guarantee Assistance | 3245-0007 | 3/31/2007
Size Status Declaration | 3245-0009 | 8/31/2007
Request from Borrowers (Financial Statements) | 3245-0012 | 5/31/2005
Disaster Business Loan Application | 3245-0017 | 7/31/2007
Disaster Home Loan Application | 3245-0018 | 9/30/2006
Pro-Net | 3245-0024 | 2/28/2007
SBIC Management Assessment Questionnaire & License Application; Exhibits to SBIC License App. and Mgmt. Assessment Questionnaire | 3245-0062 | 4/30/2007
SBIC Financial Reports | 3245-0063 | 10/31/2007
U.S. Small Business Administration Application for Section 504 Loan | 3245-0071 | 4/30/2005
CDC Annual Report Guide | 3245-0074 | 8/31/2007
Training Program Evaluation | 3245-0075 | 3/31/2007
Notice to New SBA Borrowers | 3245-0076 | 5/31/2007
Reports to SBA; Provisions of 13 CFR 120.472 | 3245-0077 | 9/30/2006
Portfolio Financing Report | 3245-0078 | 9/30/2007
Statement of Personal History | 3245-0080 | 12/31/2006
25-Model Corp. Resol. or GP Certif., 33-Model Letter to Selling Agent 34-Bank ID 1065 Appl. Lic, Assure. of Compliance | 3245-0081 | 7/31/2005
Disaster Home/Business Loan Inquiry Record | 3245-0084 | 9/30/2006
Nomination for the Small Business Prime Contractor & Nomination of the Small Business Subcontractor of the Year Award | 3245-0096 | 12/31/2005
Application for Small Business Size Determination | 3245-0101 | 8/31/2006
Request for Information Concerning Portfolio Financing | 3245-0109 | 9/30/2006
Borrower's Progress Certification Form | 3245-0110 | 9/30/2006
Financial Institution Confirmation Form | 3245-0116 | 8/31/2006
Disclosure Statement, Leveraged Licenses and Disclosure Statement Non-Leveraged Licensees | 3245-0118 | 11/30/2005
Governor's Request for Disaster Declaration | 3245-0121 | 5/31/2006
Transaction Report on Loans Serviced by Lenders | 3245-0131 | 5/31/2006
Lender Transcript of Account | 3245-0132 | 3/31/2005
Disaster Survey Worksheet | 3245-0136 | 3/31/2007
Federal Cash Transaction Report, Financial Status Report Program Income report, Narrative Program report | 3245-0169 | 3/31/2007
Stockholders Confirmation (Corporation) Ownership Confirmation (Partnership) | 3245-0172 | 8/31/2007
Statement of Personal History | 3245-0178 | 9/30/2006
SBA Counseling Evaluation | 3245-0183 | 5/31/2005
Servicing Agent Agreement | 3245-0193 | 5/31/2005
Settlement Sheet | 3245-0200 | 3/31/2005
7(a) Loan Closing Forms | 3245-0201 | 5/31/2005
8(a) Annual Update | 3245-0205 | 10/31/2005
Secondary Market Assignment and Disclosure Form | 3245-0212 | 12/31/2005
Small Business Administration; Application for Certificate of Competency | 3245-0225 | 9/30/2007
Representatives Used and Compensation Paid for Services in Connection with obtaining Federal Contracts | 3245-0270 | 12/31/2005
Financing Eligibility Statement—Social Disadvantage Disadvantage/Economic Disadvantage | 3245-0301 | 9/30/2007
8(a)/SDB Paper and Electronic Application | 3245-0313 | 8/31/2007
Voluntary Customer Surveys in accordance with E.O. 12862 | 3245-0314 | 6/30/2005
HUBZone internet Application Form | 3245-0320 | 2/28/2006
Entrepreneurial Development Management Information System (EDMIS) Counseling Information Form & Management Training Report | 3245-0324 | 9/30/2006
Pre-Disaster Mitigation Small Business Loan Application | 3245-0326 | 9/30/2006
New Market Venture Capital (NMVC) Program Application Funding and reporting | 3245-0332 | 9/30/2005
NMVC Program Application interview Question; SSBIC Applicant Tech. Proposal; Request for Approval of Management Services | 3245-0338 | 7/31/2005
Veterans Business Ownership Survey | 3245-0340 | 4/30/2006
Costs of litigation to small business; executive Interview questionnaire | 3245-0345 | 8/31/2006
PCLP Quarterly loan lose reserve report and PCLP Request | 3245-0346 | 2/28/2007
Small Business questionnaire (Use of Telecommunications) | 3245-0347 | 8/31/2006
SBA Express Information Collection | 3245-0348 | 2/28/2006
HUBzone Application Data Update | 3245-0350 | 12/31/2005
Entrepreneurial Development Impact Survey | 3245-0351 | 12/31/2005
Microloan Program Electronic Reporting System (MPERS) | 3245-0352 | 7/31/2007

Jacqueline White,
Chief, Administrative Information Branch.

[FR Doc. 05-990 Filed 1-18-05; 8:45 am]

BILLING CODE 8025-01-P